DEPARTMENT OF DEFENSE

Defense Acquisition Regulations System

48 CFR Parts 204 and 252

RIN 0750-AI44

Defense Federal Acquisition Regulation Supplement: Update Contractor and Government Entity (CAGE) Code Information (DFARS Case 2014-D013)

AGENCY: Defense Acquisition Regulations System, Department of Defense (DoD).

ACTION: Final rule.

SUMMARY: DoD is issuing a final rule amending the Defense Federal Acquisition Regulation Supplement (DFARS) to remove duplicative Commercial and Government Entity (CAGE) code instructions and an associated clause.

DATES: Effective December 11, 2014.

FOR FURTHER INFORMATION CONTACT: Mr. Dustin Pitsch, telephone 571-372-6090.

SUPPLEMENTARY INFORMATION:

I. Background

DoD is amending the DFARS to remove text that is duplicative as a result of Federal Acquisition Regulation (FAR) final rule 2012-024, “Commercial and Government Entity Code”. The FAR rule, which was published in the Federal Register at 79 FR 31187 on May 30, 2014, requires all offerors to obtain a CAGE code, which was previously only required for the DoD. The new FAR CAGE code requirement took effect on November 1, 2014, which made the DFARS language at subpart 204.72 and the clause at 252.204-7001 no longer necessary.

The following changes are made by this rule:

• Add a reference at DFARS 204.18 to DFARS Procedures, Guidance, and Information text.

• Delete DFARS subpart 204.72.

• Delete the clause at DFARS 252.204-7001, Commercial and Government Entity (CAGE) Code Reporting.

II. Publication of This Final Rule for Public Comment Is Not Required by Statute

“Publication of proposed regulations”, 41 U.S.C. 1707, is the statute which applies to the publication of the Federal Acquisition Regulation. Paragraph (a)(1) of the statute requires that a procurement policy, regulation, procedure or form (including an amendment or modification thereof) must be published for public comment if it relates to the expenditure of appropriated funds, and has either a significant effect beyond the internal operating procedures of the agency issuing the policy, regulation, procedure or form, or has a significant cost or administrative impact on contractors or offerors. This final rule is not required to be published for public comment, because the rule is removing unnecessary text that is now covered in the FAR. These requirements affect only the internal operating procedures of the Government.

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of E.O. 12866, Regulatory Planning and Review, dated September 30, 1993. This rule is not a major rule under 5 U.S.C. 804.

IV. Regulatory Flexibility Act

The Regulatory Flexibility Act does not apply to this rule because this final rule does not constitute a significant DFARS revision within the meaning of FAR 1.501-1, and 41 U.S.C. 1707 does not require publication for public comment.

V. Paperwork Reduction Act

This rule affects the information collection requirements in the provision at DFARS 252.204-7001, currently approved under OMB Control Number 0704-0225, titled Defense Federal Acquisition Regulation Supplement Part 204, Administrative Matters, and related clauses at 252.204, in accordance with the Paperwork Reduction Act (44 U.S.C. chapter 35). The impact is that the burden related to DFARS clause 252.204-7001 will be decreased by 2,297 hours. OMB Form 83-C, Paperwork Reduction Act Change Worksheet, requesting removal of the 2,297 hours from the OMB Control Number 0704-0225 information collection has been approved by OMB.

List of Subjects in 48 CFR Parts 204 and 252

Government procurement.

Manuel Quinones,
Editor, Defense Acquisition Regulations System.

Therefore, 48 CFR parts 204 and 252 continues to read as follows:

Authority: 41 U.S.C. 1303 and 48 CFR chapter 1.

PART 204—ADMINISTRATIVE MATTERS

2. Add subpart 204.18 to read as follows:

SUBPART 204.18—COMMERCIAL AND GOVERNMENT ENTITY CODE
Sec.
204.1870 Procedures.

SUBPART 204.18—COMMERCIAL AND GOVERNMENT ENTITY CODE

204.1870 Procedures.

Follow the procedures and guidance at PGI 204-1870 concerning Commercial and Government Entity (CAGE) codes and CAGE file maintenance.

Subpart 204.72 [Removed]

3. Remove subpart 204.72, consisting of sections 204.7200, 204.7201, 204.7202, 204.7202-1, 204.7202-2, 204.7202-3, 204.7203, 204.7204, 204.7205, 204.7206, and 204.7207.

PART 252—SOLICITATION PROVISIONS AND CONTRACT CLAUSES

252.204-7001 [Removed and Reserved]

4. Remove and reserve 252.204-7001.

[FR Doc. 2014-28814 Filed 12-10-14; 8:45 am]

BILLING CODE 5001-06-P